DEPARTMENT OF HEALTH AND HUMAN SERVICES

Centers for Disease Control and Prevention

Board of Scientific Counselors, National Center for Injury Prevention and Control, (BSC, NCIPC)

Correction: This notice was published in the Federal Register on May 21, 2013, Volume 78, Number 98, Pages 29754-29755. The meeting location for Thursday, June 13, 2013, has been changed to:

Place: CDC, Chamblee Campus, Building 106, Conference Room 1-B, 4770 Buford Highway, NE., Atlanta, Georgia 30345.

Contact Person for More Information: Gwendolyn H. Cattledge, Ph.D., M.S.E.H., Deputy Associate Director for Science, National Center for Injury Prevention and Control, CDC, 4770 Buford Highway NE., Mailstop F-63, Atlanta, Georgia 30341, Telephone: (770) 488-1430, Email: gxc8@cdc.gov.

The Director, Management Analysis and Services Office, has been delegated the authority to sign Federal Register notices pertaining to announcements of meetings and other committee management activities, for both the Centers for Disease Control and Prevention, and Agency for Toxic Substances and Disease Registry.

Elaine L. Baker,
Director, Management Analysis and Services Office, Centers for Disease Control and Prevention.

[FR Doc. 2013-13736 Filed 6-10-13; 8:45 am]

BILLING CODE 4163-18-P